INTERNATIONAL TRADE COMMISSION

[Investigation Nos. 731-TA-1124 and 1125 (Review)]

Electrolytic Manganese Dioxide From Australia and China

Determinations

On the basis of the record ¹ developed in the subject five-year review, the United States International Trade Commission (Commission) determines, pursuant to section 751(c) of the Tariff Act of 1930 (19 U.S.C. 1675(c)), that revocation of the antidumping duty order on electrolytic manganese dioxide (“EMD”) from Australia would not be likely to lead to continuation or recurrence of material injury to an industry in the United States within a reasonably foreseeable time and that revocation of the antidumping duty order on EMD from China would be likely to lead to continuation or recurrence of material injury within a reasonably foreseeable time.

¹ The record is defined in sec. 207.2(f) of the Commission's Rules of Practice and Procedure (19 CFR 207.2(f)).

Background

The Commission instituted these reviews on September 3, 2013 (78 FR 54269) and determined on May 19, 2014 that it would conduct full reviews (79 FR 30163, May 27, 2014). Notice of the scheduling of the Commission's reviews and of a public hearing to be held in connection therewith was given by posting copies of the notice in the Office of the Secretary, U.S. International Trade Commission, Washington, DC, and by publishing the notice in the Federal Register on May 27, 2014 (79 FR 30163). The hearing was held in Washington, DC, on October 21, 2014, and all persons who requested the opportunity were permitted to appear in person or by counsel.

The Commission completed and filed its determinations in this review on December 15, 2014. The views of the Commission are contained in USITC Publication 4506 (December 2014), entitled Electrolytic Manganese Dioxide from Australia and China: Investigation Nos. 731-TA-1124 and 1125 (Review).

By order of the Commission.
Dated: December 18, 2014.
Lisa R. Barton,
Secretary to the Commission.

[FR Doc. 2014-30161 Filed 12-23-14; 8:45 am]

BILLING CODE 7020-02-P